DEPARTMENT OF TRANSPORTATION

Federal Aviation Administration

Notice to Manufacturers of Airports In-Pavement Stationary Runway Weather Information Systems

AGENCY: Federal Aviation Administration (FAA), DOT.

ACTION: Notice and request for information.

SUMMARY: The FAA is considering issuing waivers to foreign manufactures of Active and/or Passive In-Pavement Stationary Runway Weather Information Systems that meet the requirements of FAA Advisory Circular (AC) 15015220-30, Airport Winter Safety and Operations. This notice requests information from manufactures of systems meeting the technical requirements to determine whether a waiver to the Buy American Preferences should be issued. Projects funded under the Airport Improvement Program (AIP) must meet the requirements of Buy American Preferences.

DATES: The information must be received by January 23, 2017.

FOR FURTHER INFORMATION CONTACT: Mr. Carlos N. Fields, Airports Financial Assistance, APP 520, Rooms 619, FAA, 800 Independence Avenue SW., Washington, DC 20591, Telephone (202) 267-8826.

SUPPLEMENTARY INFORMATION: The Federal Aviation Administration (FAA) manages a Federal grant program for airports called the Airports Improvement Program (AIP). AIP grant recipients must follow 49 U.S.C. 50101, Buy American Preferences.

Under 49 U.S.C 50101(b)(3), the Secretary of Transportation may waive the Buy American Preference requirement if the goods are not produced in a sufficient and reasonably available amount or are not of a satisfactory quality.

The purpose of this notice is to request manufactures of both passive and active in-pavement runway surface condition sensor systems, both domestic and foreign, to advise FAA of the system that they manufacture and whether it can meet the FAA Advisory Circular technical requirements. To respond to this notice, manufactures are to submit a written statement confirming that they currently manufacture passive and/or active in-pavement runway weather information systems on their business letterhead and signed by an authorized designee. The FAA wants to determine if there is sufficient quantity of domestic manufactures capable of meeting the FAA technical requirements. If the FAA cannot find that there are enough U.S. manufactures, it may issue a nationwide waiver to the foreign manufacturers identified as being capable of meeting the technical requirements.

Technical Requirements: FAA Advisory Circular (AC) 150/5220-30, Airport Winter Safety and Operations recommend that in-pavements runway sensor systems comply with the performances and installations requirements of SAE Aerospace Recommended Practice 5533, Stationary Runway Weather Information System (In-pavement). The SAE specification is available for purchases at http://www.sae.org. Because the guidance and specification s in an Advisory Circular are mandatory for airport project using AIP grant funds, as in-pavement runway surface condition sensor system project that included any AIP grant funding must meet the requirements of SAE ARP5533.

After review, the FAA may issue a nationwide waiver to Buy American Preferences for foreign manufactures or United States manufactures that meet the Buy American preference requirements. Waivers would not be issued for manufacturers that do not fully meet the technical requirements. This “nationwide waiver” would allow equipment to be used on airport projects without having to receive separate project waivers. Having a nationwide waiver allows projects to start quickly without have to wait for the Buyer American analysis to be completed for every project.

Items that have been granted a “nationwide waiver” can be found on the FAA Web site at: http://www.faa.gov/airports/aip/buy_american/.

Issued in Washington, DC, December 1, 2016.
Frank J. San Martin,
Manager, Airports Financial Assistance Division.

[FR Doc. 2016-29319 Filed 12-6-16; 8:45 am]

BILLING CODE 4910-13-P